NATIONAL SCIENCE BOARD

Notice of Meeting; Sunshine Act

AGENCY: National Science Board, National Science Foundation.

ACTION: Correction to notice of public meeting.

SUMMARY: This document contains a correction to a notice of a public meeting that was published in the Federal Register on Wednesday, March 22, 2006 (71 FR 14553) relating to a meeting of the National Science Board.

FOR FURTHER INFORMATION CONTACT: Dr. Robert Webber, (703) 292-7000 (not a toll-free number).

SUPPLEMENTARY INFORMATION:

Background

The Government in the Sunshine Act (5 U.S.C. 552b) requires the National Science Board publish notice of its meetings in the Federal Register.

Need for Correction

As published, the agenda National Science Board's March 29-30, 2006 meeting contains an error that may prove to be misleading and is in need of clarification.

Correction of Publication

Accordingly, the publication of the National Science Board's March 29-30, 2006 agenda is corrected as follows:

On page 14553, column 2, immediately below the section caption Matters to be Considered, the text is corrected to read as follows:

Matters to be Considered: Wednesday, March 29, 2006.

Russell Moy,
Attorney-Advisor, National Science Board Office.

[FR Doc. 06-2953 Filed 3-22-06; 4:55 pm]

BILLING CODE 7555-01-P